DEPARTMENT OF LABOR

Employment and Training Administration

[TA-W-59,788]

Ace Products, LLC, Newport, TN; Notice of Affirmative Determination Regarding Application for Reconsideration

By letter dated October 3, 2006, a petitioner requested administrative reconsideration of the Department of Labor's Notice of Negative Determination Regarding Eligibility to Apply for Worker Adjustment Assistance, applicable to workers of the subject firm. The denial notice was signed on September 14, 2006, and published in the Federal Register on September 26, 2006 (71 FR 56172).

The initial investigation resulted in a negative determination based on the finding that imports of semi pneumatic and solid rubber tires did not contribute importantly to worker separations at the subject firm and no shift of production to a foreign source occurred.

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 8th of November, 2006.
Elliott S. Kushner,
Certifying Officer, Division of Trade Adjustment Assistance.

[FR Doc. E6-19339 Filed 11-15-06; 8:45 am]

BILLING CODE 4510-30-P